DEPARTMENT OF THE TREASURY

Office of Foreign Assets Control

31 CFR Parts 535, 550, and 575

Administrative Collection of Civil Penalties in the Iranian Assets Control Regulations, the Libyan Sanctions Regulations, and the Iraqi Sanctions Regulations

AGENCY: Office of Foreign Assets Control, Treasury.

ACTION: Final rule.

SUMMARY: The Office of Foreign Assets Control (“OFAC”) of the U.S. Department of the Treasury is revising the Iranian Assets Control Regulations, 31 CFR part 535, the Libyan Sanctions Regulations, 31 CFR part 550, and the Iraqi Sanctions Regulations, 31 CFR part 575, to reaffirm that administrative collection of unpaid civil penalties imposed by OFAC is authorized in addition to judicial means of collection.

DATES: This rule is effective March 29, 2005.

FOR FURTHER INFORMATION CONTACT: Chief of Policy Planning and Program Management, tel. (202) 622-2500, Chief of Civil Penalties, tel.: (202) 622-6140, or Chief Counsel, tel.: (202) 622-2410, Office of Foreign Assets Control, Department of the Treasury, Washington, DC 20220 (not toll free numbers).

SUPPLEMENTARY INFORMATION:

Background

By law (31 U.S.C. 3711(a)), heads of Federal agencies are required to attempt to collect debts owed to those agencies. Among other things, Federal agencies may seek collection using one or more administrative means, such as contracting with private collection agencies. 31 U.S.C. 3718. The Department of the Treasury aggressively attempts to collect debts owed it by using multiple collection methods, including administrative collection. 31 CFR 5.2(e), 5.4, 5.9(c), and 5.15. An unpaid civil penalty is a debt under Treasury regulations. 31 CFR 5.1.

OFAC is revising pertinent sections of the Iranian Assets Control Regulations, 31 CFR part 535, the Libyan Sanctions Regulations, 31 CFR part 550, and the Iraqi Sanctions Regulations, 31 CFR part 575, to reaffirm that administrative collection of civil penalties is authorized in addition to or in lieu of judicial means of collection.

Procedural Matters

Because the Iranian Assets Control Regulations, the Libyan Sanctions Regulations, and the Iraqi Sanctions Regulations involve a foreign affairs function of the United States, and because this rule imposes no new substantive duties or obligations on the public but rather clarifies OFAC's options regarding existing legal authorities and requirements related to the administrative collection of debts owed to the Government, the provisions in the Administrative Procedure Act (5 U.S.C. 553) requiring notice and public procedure and a delayed effective date are inapplicable. Because no notice of proposed rulemaking is required, the provisions of the Regulatory Flexibility Act (5 U.S.C. Chapter 6) do not apply.

Electronic and Facsimile Availability

This file is available for download without charge in ASCII and Adobe Acrobat readable (*.PDF) formats at GPO Access. GPO Access supports HTTP, FTP, and Telnet at fedbbs.access.gpo.gov. It may also be accessed by modem dialup at (202) 512-1387 followed by typing “/GO/FAC.” Paper copies of this document can be obtained by calling the Government Printing Office at (202) 512-1530. This document and additional information concerning the programs of the Office of Foreign Assets Control are available for downloading from the Office's Internet Home Page: http://www.treas.gov/ofac, or via FTP at ofacftp.treas.gov. Facsimiles of information are available through the Office's 24-hour fax-on-demand service: call (202) 622-0077 using a fax machine, fax modem, or (within the United States) a touch-tone telephone.

List of Subjects

31 CFR Part 535

Administrative practice and procedure, Iran, Penalties, Sanctions.

31 CFR Part 550

Administrative practice and procedure, Libya, Penalties, Sanctions.

31 CFR Part 575

Administrative practice and procedure, Iraq, Penalties, Sanctions.

For the reasons set forth in the preamble, 31 CFR chapter V is amended as follows:

PART 535—IRANIAN ASSETS CONTROL REGULATIONS

1. The authority citation for part 535 continues to read as follows:

Authority: 18 U.S.C. 2332d; 31 U.S.C. 321(b); 50 U.S.C. 1701-1706; Pub. L. 101-410, 104 Stat. 890 (28 U.S.C. 2461 note); E.O. 12170, 44 FR 65729, 3 CFR, 1979 Comp., p. 457; E.O. 12205, 45 FR 24099, 3 CFR, 1980 Comp., p. 248; E.O. 12211, 45 FR 26685, 3 CFR, 1980 Comp., p. 253; E.O. 12276, 46 FR 7913, 3 CFR, 1981 Comp., p. 104; E.O. 12279, 46 FR 7919, 3 CFR, 1981 Comp., p. 109; E.O. 12280, 46 FR 7921, 3 CFR, 1981 Comp., p. 110; E.O. 12281, 46 FR 7923, 3 CFR, 1981 Comp., p. 110; E.O. 12282, 46 FR 7925, 3 CFR, 1981 Comp., p. 113; E.O. 12283, 46 FR 7927, 3 CFR, 1981 Comp., p. 114; and E.O. 12294, 46 FR 14111, 3 CFR, 1981 Comp., p. 139.

Subpart G—Penalties

2. Section 535.705 is revised to read as follows:

§ 535.705 Administrative collection; referral to United States Department of Justice.

In the event that the person named does not pay the penalty imposed pursuant to this part or make payment arrangements acceptable to the Director of the Office of Foreign Assets Control within 30 days of the date of mailing of the penalty notice, the matter may be referred for administrative collection measures by the Department of the Treasury or to the United States Department of Justice for appropriate action to recover the penalty in a civil suit in a Federal district court.

PART 550—LIBYAN SANCTIONS REGULATIONS

3. The authority citation for part 550 is revised to read as follows:

Authority: 3 U.S.C. 301; 18 U.S.C. 2339B, 2332d; 22 U.S.C. 287c, 2349aa-8 and 2349aa-9; 31 U.S.C. 321(b); 49 U.S.C. 40106(b); 50 U.S.C. 1601-1651, 1701-1706; Pub. L. 101-410, 104 Stat. 890 (28 U.S.C. 2461 note); Pub. L. 106-387, 114 Stat. 1549; E.O. 12543, 51 FR 875; 3 CFR, 1986 Comp., p. 181; E.O. 12544, 51 FR 1235, 3 CFR, 1986 Comp., p. 183; E.O. 12801, 57 FR 14319 3 CFR, 1992 Comp., p. 294; E.O. 13357, 69 FR 56665, September 20, 2004.

Subpart G—Penalties

4. Section 550.706 is revised to read as follows:

§ 550.706 Administrative collection; referral to United States Department of Justice.

In the event that the person named does not pay the penalty imposed pursuant to this part or make payment arrangements acceptable to the Director of the Office of Foreign Assets Control within 30 days of the date of mailing of the penalty notice, the matter may be referred for administrative collection measures by the Department of the Treasury or to the United States Department of Justice for appropriate action to recover the penalty in a civil suit in a Federal district court.

PART 575—IRAQI SANCTIONS REGULATIONS

5. The authority citation for part 575 continues to read as follows:

Authority: 3 U.S.C. 301; 22 U.S.C. 287(c); 18 U.S.C. 2332d; 22 U.S.C. 287c; Pub. L. 101-410, 104 Stat. 890 (28 U.S.C. 2461 note); 31 U.S.C. 321(b); 49 U.S.C. 40106; 50 U.S.C. 1601-1651, 1701-1706; Pub. L. 101-513, 104 Stat. 2047-2055 (50 U.S.C. 17012 note); E.O. 12722, 55 FR 31803, 3 CFR, 1990 Comp., p. 294; E.O. 12724, 55 FR 33089, 3 CFR, 1990 Comp., p. 297; E.O. 12817, 57 FR 484333, 3 CFR, 1992 Comp., p. 317; E.O. 13350, 69 FR 46055, July 29, 2004.

Subpart G—Penalties

6. Section 575.705 is revised to read as follows:

§ 575.705 Administrative collection; referral to United States Department of Justice.

In the event that the person named does not pay the penalty imposed pursuant to this part or make payment arrangements acceptable to the Director of the Office of Foreign Assets Control within 30 days of the date of mailing of the penalty notice, the matter may be referred for administrative collection measures by the Department of the Treasury or to the United States Department of Justice for appropriate action to recover the penalty in a civil suit in a Federal district court.

Dated: March 18, 2005.
Robert W. Werner,
Director, Office of Foreign Assets Control.
Approved: March 21, 2005.
Juan C. Zarate,
Assistant Secretary of the Treasury for Terrorist Financing, Department of the Treasury.

[FR Doc. 05-6092 Filed 3-24-05; 2:43 pm]

BILLING CODE 4810-25-P